DEPARTMENT OF TRANSPORTATION

National Highway Traffic Safety Administration

[Docket Number NHTSA-2016-0131]

Reports, Forms and Recordkeeping Requirements

AGENCY: National Highway Traffic Safety Administration (NHTSA), U.S. Department of Transportation.

ACTION: Notice and request for comments.

SUMMARY: In accordance with the Paperwork Reduction Act of 1995 (44 U.S.C. 3501 et seq.) this notice announces NHTSA has submitted to the Office of Management and Budget (OMB) a request for emergency clearance and review for existing information collection 2127-0025. Approval of this collection is essential to the mission of the agency.

While NHTSA has requested a temporary emergency clearance for this collection, the agency is also in the process of requesting a full clearance for this collection and has already published a 30-day Federal Register notice requesting comment. This notice repeats that request for comments.

DATES: Comments on the already published request for comments must be received on or before May 22, 2017. We have requested that OMB take action on the emergency collection by April 30, 2017.

ADDRESSES: Send comments, by May 22, 2017, to the Office of Information and Regulatory Affairs, Office of Management and Budget, 725 17th Street NW., Washington, DC 20503, Attention: NHTSA Desk Officer.

FOR FURTHER INFORMATION CONTACT: Michael Kuppersmith, National Highway Traffic Safety Administration, Office of the Chief Counsel (NCC-0010), (202) 366-5263, 1200 New Jersey Avenue SE., Washington, DC 20590.

SUPPLEMENTARY INFORMATION: NHTSA has requested emergency Paperwork Reduction Act clearance for its confidential business information collection (2127-0025) given the agency's current collection expires April 30, 2017, and use of this collection is essential to the mission of the agency. NHTSA published a 60-day renewal for this collection on December 28, 2016 (81 FR 95729), and received no comments. NHTSA published a 30-day notice for this collection on April 21, 2017 (82 FR 18825), and the comment period remains open until May 22, 2017. The agency again requests any comments from the public on this request by that date.

NHTSA expects that it will receive approximately 500 requests for confidentiality per year. With an estimated eight hours of preparation to collect and provide the information for each request, at an assumed rate of $24.92 per hour, the annual estimated cost of collecting and preparing the information necessary for 500 complete requests for confidential treatment is about $99,680 (8 hours of preparation × 500 requests × $24.92). Adding in a postage cost of $3,325 (500 requests at a cost of $6.65 for postage (priority flat rate envelope from USPS)), we estimate that it will cost $103,005 per year for persons to prepare and submit the information necessary to satisfy the confidential business information provisions of 49 CFR part 512.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it by May 22, 2017.

Issued in Washington, DC, under authority delegated in 49 CFR 1.95.
Jack Danielson,
Acting Deputy Administrator, NHTSA.

[FR Doc. 2017-08641 Filed 4-27-17; 8:45 am]

BILLING CODE 4910-59-P